DEPARTMENT OF THE INTERIOR

Bureau of Reclamation

Closure Order Establishing Prohibitions On Shell Road Through Peoria Wildlife Area, New Melones Lake Project, Tuolumne County, CA

AGENCY: Bureau of Reclamation, Interior.

ACTION: Notice of temporary closure to motorized vehicles.

SUMMARY: The Bureau of Reclamation's (Reclamation) New Melones Resource Office will temporarily close a portion of Shell Road to public vehicle traffic beginning December 15, 2002, and continuing through approximately April 15, 2003. The exact re-opening date will depend upon weather and resource conditions. The portion of Shell Road to be closed passes through Section 20, R14E, T1N, and continues through Section 19, R14E, T1N, MD Meridian, on property owned and managed by Reclamation. This section of the road passes through the Peoria Wildlife Mitigation Area, as defined in the Final Report, New Melones Lake Fish and Wildlife Resources Report, October 1991, page 16. The entire 2,500-acre Peoria Wildlife Mitigation Area will now be off-limits to public vehicular access—with the exception of authorized parking areas and turnarounds located outside new gates to be established at the closure points on both ends of Shell Road on Reclamation property.

EFFECTIVE DATES: The closure will be effective December 15, 2002, through approximately April 15, 2003. Exact re-opening date will be dependant upon weather and resource conditions.

ADDRESSES: A map is available for inspection at Reclamation's New Melones Lake Visitor Center, located at 6850 Studhorse Flat Road, Sonora, California 95370. The map may be viewed between the hours of 10 a.m. and 4 p.m. daily. To have a map mailed to your address, send your request to the above address, Attention: Shell Road Temporary Closure Map Request.

FOR FURTHER INFORMATION CONTACT: Reclamation, Mid-Pacific Region Public Affairs Office, at 916-978-5100 or Reclamation, New Melones Resource Office, 209-536-9094. Written comments will be accepted regarding this temporary closure now through December 15, 2002. Please send written comments to: Bureau of Reclamation, Attn: Jeff Laird, 6850 Studhorse Flat Road, Sonora, California 95370; Fax: 209-536-9652; e-mail: jlaird@mp.usbr.gov.

SUPPLEMENTARY INFORMATION: This action is being taken under 43 CFR Part 423 to protect public safety and prevent additional resource degradation. Reclamation will prohibit public vehicle traffic on Shell Road and off-road throughout the Peoria Wildlife Area during the winter months in an effort to protect sensitive resources and preserve the existing roadway, which has become severely eroded and unsafe. Significant maintenance will be required to return the road to a safe condition for public vehicles. Vegetation damage, habitat destruction, erosion and sedimentation, and related resource impacts are increasing in this area. Natural resources continue to be damaged and public safety compromised by illegal actions including target shooting, poaching, off-road driving, fires, littering, dumping of large debris and hazardous materials, poaching, vandalism, and illegal camping.

Planning for a draft Shell Road Corridor Management Plan to address these and other issues is currently in progress. By closing Shell Road temporarily this winter, further damage can be avoided while plans for improvements are devised and needed maintenance is performed.

Public access by foot, horseback, and bicycle will not be impeded. The area will remain open to authorized public recreational activities including but not limited to legal hunting, hiking, rock climbing, horseback riding, bicycling, wildlife viewing, and sightseeing. Parking and turnaround areas will be located outside new gates to be established at the closure points on both ends of Shell Road on Reclamation property. Signage will be installed to notify the public of the closure.

Exceptions to the vehicle closure will include Reclamation Operations and Maintenance personnel, law enforcement and fire department officers, and other agencies, entities, and individuals who have received express written authorization from Reclamation to enter the closure areas.

This order is posted in accordance with 43 CFR part 423.3(b). Violation of this prohibition or any prohibition listed in 43 CFR part 423 is punishable by fine or imprisonment for not more than six months or both.

Dated: November 14, 2002.
Thomas J. Aiken,
Area Manager, Central California Area Office.

[FR Doc. 02-31416 Filed 12-12-02; 8:45 am]

BILLING CODE 4310-MN-P